SOCIAL SECURITY ADMINISTRATION

Statement of Organization, Functions and Delegations of Authority

This statement amends part S of the Statement of the Organization, Functions and Delegations of Authority which covers the Social Security Administration (SSA). Chapter S9 covers the Office of the General Counsel (OGC). Notice is given that the current divisions are being elevated to office-level components. There also will be minor organizational and functional changes within OGC. The changes are as follows:

Section S9.00 The Office of the General Counsel—(Mission):

Amend to read as follows:

The General Counsel, as special advisor to the Commissioner on legal matters, is responsible for providing all legal services and advice to the Commissioner, Deputy Commissioner and all subordinate organizational components (except OIG) of SSA in connection with the operation and administration of SSA.

Section S9.10 The Office of the General Counsel—(Organization)

Retitle:

C. The Immediate Office of the General Counsel (S9A)

1. The Deputy General Counsel (Regional Operations) (S9A-1) to The Deputy General Counsel (S9A-1).

Delete:

2. The Inspector General Staff (S9A-2).

Add:

2. The Executive Operations Staff (S9A-3).

Retitle:

D. The Division of General Law (S9B) to The Office of General Law (S9B).

E. The Division of Litigation (S9C) to The Office of Program Litigation (S9C).

F. The Division of Policy and Legislation (S9E) to The Office of Program Law (S9E).

Section S9.20 The Office of the General Counsel—(Functions):

Retitle:

C. The Immediate Office of the General Counsel (S9A)

1. The Deputy General Counsel (Regional Operations) (S9A-1) to The Deputy General Counsel (S9A-1).

Amend as follows:

C. The Immediate Office of the General Counsel (S9A) includes the Deputy General Counsel (S9A-1) and the Executive Operations Staff (S9A-3).

1. The Deputy General Counsel (S9A-1) assists the General Counsel and the Principal Deputy General Counsel in carrying out their responsibilities and performs other duties as the General Counsel may prescribe. In the event of the absence or disability of both the General Counsel and the Principal Deputy General Counsel, the Deputy General Counsel acts for the General Counsel unless the Commissioner directs otherwise.

Delete in its entirety:

2. The Inspector General Staff (S9A-2).

Add:

2. The Executive Operations Staff (S9A-3) provides internal organizational planning, management analysis and review, staff support and assistance to the General Counsel, Principal Deputy General Counsel, Deputy General Counsel, OGC Executive Staff, OGC Executive Officer and other OGC managers. Plans, develops and coordinates OGC's financial, personnel and administrative management activities and programs for OGC headquarters and regional offices. Plans, directs and provides day-to-day operational support services on all areas of administrative, budget, space and facilities, communications, and systems management. Identifies, coordinates and implements OGC's training program. Formulates, justifies, and presents annual and multi year budget submissions. Controls the collection, recording and reporting of all financial, personnel, and administrative data in connection with budget and staffing formulation and executive functions.

Retitle and amend as follows:

D. The Division of General Law (S9B) to The Office of General Law (S9B).

1. Provides legal services on business management activities and administrative operations throughout SSA, including procurement, contracting, patents, copyrights, budget, appropriations, personnel, adverse employment actions, employment discrimination, compensation, travel, personnel and tort claims by and against SSA, electronic service delivery, labor-management relations and Touhy requests.

2. Provides legal services and advice regarding SSA's civil defense, civil rights and security programs as well as for SSA's administration of the Freedom of Information and Privacy Acts and Computer Matching Agreements. Provides liaison with the Department of Justice on administering the Freedom of Information and Privacy Acts. Liaisons with the Comptroller General.

4. Assists SSA components with the development and implementation of ethics training, provides liaison with the White House Office of Counsel and the Office of Government Ethics on ethics matters.

E. The Division of Litigation (S9C) to The Office of Program Litigation (S9C).

1. Furnishes legal support and litigation related advice in both administrative and court litigation in connection with the operations and administration by SSA of the various programs administered by SSA under the Social Security Act and of other programs which do not fall within the jurisdiction of the Office of General Law.

F. The Division of Policy and Legislation (S9E) to The Office of Program Law (S9E).

1. Furnishes nonlitigation legal services and advice in connection with the operations and administration of the various programs administered by SSA under the Social Security Act and of other programs and areas which do not fall within the jurisdiction of the Office of General Law.

3. Drafts or reviews proposed testimony of SSA officials before Congress relating to any area within the jurisdiction of the Office of Program Law.

4. Drafts or reviews all SSA regulatory materials and legal instruments relating to areas within the jurisdiction of the Office of Program Law.

Amend as follows:

G. The Offices of Regional Chief Counsels (S9G-F1—S9G-FX).

2. Provide litigation support and legal services and advice to the SSA Regional Commissioners in the various areas set out above regarding OGC offices.

Dated: May 22, 2000.
Kenneth S. Apfel,
Commissioner of Social Security.

[FR Doc. 00-15862 Filed 6-22-00; 8:45 am]

BILLING CODE 4191-02-P